DEPARTMENT OF COMMERCE

International Trade Administration

[A-570-855]

Certain Non-Frozen Apple Juice Concentrate from the People's Republic of China: Final Results of 1999-2001 Administrative Review and Partial Rescission of Review

AGENCY: Import Administration, International Trade Administration, Department of Commerce.

ACTION: Notice of Final Results of 1999-2001 Administrative Review and Partial Rescission of Review.

SUMMARY: We have determined that sales of certain non-frozen apple juice concentrate from the People's Republic of China were made below normal value during the period November 23, 1999, through May 31, 2001. We are also rescinding the review, in part, in accordance with 19 CFR 351.213(d)(3).

Based on our review of comments received and a reexamination of surrogate value data, we have made certain changes in the margin calculations of all of the reviewed companies. Consequently, the final results differ from the preliminary results. The final weighted-average dumping margins for these firms are listed below in the section entitled “Final Results of the Review.” Based on these final results of review, we will instruct the Customs Service to assess antidumping duties based on the difference between the export price and normal value on all appropriate entries.

EFFECTIVE DATE: November 14, 2002.

FOR FURTHER INFORMATION CONTACT: Audrey Twyman, Stephen Cho, or John Brinkmann, Group 1, Office I, Antidumping/Countervailing Duty Enforcement, Import Administration, International Trade Administration, U.S. Department of Commerce, 14th Street and Constitution Avenue NW, Washington, DC 20230; telephone (202) 482-3534, (202) 482-3798, and (202) 482-4126, respectively.

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department of Commerce"s (“the Department”) regulations are to 19 CFR Part 351 (April 2001).

Background

On July 9, 2002, the Department published the preliminary results of this review of certain non-frozen apple juice concentrate (“NFAJC”) from the People's Republic of China (“PRC”). See Certain Non-Frozen Apple Juice Concentrate From the People's Republic of China: Preliminary Results of 1999-2001 Administrative Review and Partial Rescission of Review, 67 FR 45462 (July 9, 2002) (“Preliminary Results”). The period of review (“POR”) is November 23, 1999, through May 31, 2001. This review covers the following producers or exporters (referred to collectively as “the respondents”): Shaanxi Haisheng Fresh Fruit Juice Co., Ltd. (“Haisheng”), Shandong Zhonglu Juice Group Co., Ltd. (“ZhongLu”), Yantai Oriental Juice Co., Ltd. (“Oriental”), Qingdao Nannan Foods Co., Ltd. (“Nannan”), Xian Asia Qin Fruit Co., Ltd. (“Xian Asia”), Changsha Industrial Products & Minerals Import and Export Co., Ltd. (“Changsha”), Shandong Foodstuffs Import and Export Corporation (“Shandong”), Shaanxi Hengxing Fruit Juice Co., Ltd. (“Hengxing”), Shaanxi Machinery and Equipment Import and Export Corporation (“SAAME”), Shaanxi Gold Peter Natural Drink Co., Ltd. (“Gold Peter”), Xian Yang Fuan Juice Co., Ltd. (“Xian Yang”), and Sanmenxia Lakeside Fruit Juice Co., Ltd. (“Lakeside”).

In May, 2002, we conducted verification of the questionnaire responses submitted by the following respondents: Hengxing, Xian Asia, and Haisheng. We issued verification reports on July 17, 2002.

We invited parties to comment on the Preliminary Results. On August 8, 2002, we received case briefs from Lakeside, and a combined case brief from Haisheng, Zhonglu, Oriental, Nannan, Xian Asia, Shandong, and Hengxing. On August 13, 2002, the petitioners ¹ submitted a rebuttal brief. No hearing was held because none was requested.

¹ Coloma Frozen Foods, Inc., Green Valley Packers, Knouse Foods Cooperative, Inc., Mason County Fruit Packers Co-op, Inc., and Tree Top, Inc.

The Department has conducted this administrative review in accordance with section 751 of the Act.

Scope of Review

Merchandise covered by this review is NFAJC from the PRC. NFAJC is defined as all non-frozen concentrated apple juice with a Brix scale of 40 or greater, whether or not containing added sugar or other sweetening matter, and whether or not fortified with vitamins or minerals. Excluded from the scope of this order are: frozen concentrated apple juice; non-frozen concentrated apple juice that has been fermented; and non-frozen concentrated apple juice to which spirits have been added.

The merchandise subject to this order is classified in the Harmonized Tariff Schedule of the United States (“HTSUS”) at subheadings 2009.70.00.20 and 2106.90.52. Although the HTSUS subheadings are provided for convenience and customs purposes, the written description of the scope of the order is dispositive.

Rescission of Review in Part

As noted in the Preliminary Results, Xian Yang reported no shipments of subject merchandise to the United States during the POR. Entry data provided by the Customs Service confirm that there were no POR entries from Xian Yang of NFAJC. Therefore, consistent with the Department's regulations and practice, we are rescinding this review with respect to Xian Yang. (See 19 CFR 351.213(d)(3); see, also, Silicon Metal from Brazil; Final Results of Antidumping Duty Administrative Review, 61 FR 46763 (September 5, 1996).)

Use of Facts Otherwise Available

As discussed in detail in the Preliminary Results, we have determined that companies which did not respond to the Department's questionnaire in this proceeding should not receive separate rates and, thus, are viewed as part of the PRC-wide entity. Moreover, as noted in the Preliminary Results, we determine that, in accordance with sections 776(a) and (b) of the Act, the use of adverse facts available is appropriate for companies which did not respond to our requests for information. No party in this proceeding has commented on these issues since the publication of the Preliminary Results. Thus, for these final results, we have continued to assign the PRC-wide rate of 51.74 percent to Changsha Industrial Products & Minerals Import and Export Co. and other companies subject to the PRC-wide rate.

Analysis of Comments Received

All issues raised in the case and rebuttal briefs by parties to this review are addressed in the “Issues and Decision Memorandum” from Richard W. Moreland, Deputy Assistant Secretary, Import Administration to Faryar Shirzad, Assistant Secretary, Import Administration, dated November 6, 2002 (“Decision Memorandum”), which is hereby adopted by this notice. Attached to this notice as an Appendix is a list of the issues which parties have raised and to which we have responded in the Decision Memorandum. Parties can find a complete discussion of all issues raised in this review and the corresponding recommendations in this public memorandum which is on file in the Central Records Unit, room B-099 of the main Department building. In addition, a complete version of the Decision Memorandum can be accessed directly on the Internet at http://ia.ita.doc.gov/frn/ under the heading “China PRC.” The paper copy and electronic version of the Decision Memorandum are identical in content.

Changes Since the Preliminary Results

Based on our review of comments received and a reexamination of surrogate value data, we have made certain changes to the calculations for the final results. These changes are discussed in the following Comments in the Decision Memorandum or in the referenced final calculation memoranda for particular companies:

All Companies

Steam Coal: Decision Memorandum Comment 1

Domestic Brokerage and Handling: Decision Memorandum Comment 2

Labor: Pursuant to section 351.408(c)(3) of the Department's regulations, we valued labor using the regression-based wage rate for the PRC published by Import Administration on its website. This data has recently been updated and the revised PRC estimated average hourly wage rate is $0.84 per hour for 2000. See www.ia.ita.doc.gov/wages/00wages/00wages.htm.

Final Results of Review

We determine that the following dumping margins exist for the period November 23, 1999, through May 31, 2001:

Exporter/manufacturer | Weighted-average margin percentage
Qingdao Nannan Foods Co., Ltd. | 0.00
Sanmenxia Lakeside Fruit Juice Co., Ltd. | 0.00
Shaanxi Gold Peter Natural Drink Co., Ltd. | 0.00
Shaanxi Haisheng Fresh Fruit Juice Co., Ltd. | 0.00
Shaanxi Hengxing Fruit Juice Co., Ltd. | 0.00
Shaanxi Machinery and Equipment Import and Export Corporation | 0.00
Shandong Foodstuffs Import and Export Corporation | 0.00
Shandong Zhonglu Juice Group Co., Ltd. | 0.00
Xian Asia Qin Fruit Co., Ltd. | 0.00
Yantai Oriental Juice Co., Ltd. | 0.00
PRC-wide rate (including Changsha Industrial Products & Minerals Import and Export Co., Ltd.) | 51.74

The PRC-wide rate applies to all entries of the subject merchandise, including entries from Changsha Industrial Products & Minerals Import and Export Co., Ltd., except for entries from exporters that are identified individually above.

Assessment Rates

In accordance with 19 CFR 351.212(b)(1), we have calculated importer (or customer)-specific assessment rates for the merchandise subject to this review. To determine whether the duty assessment rates were de minimis, in accordance with the requirement set forth in 19 CFR 351.106(c)(2), we calculated importer (or customer )-specific ad valorem rates by aggregating the dumping margins calculated for all U.S. sales to that importer (or customer ) and dividing this amount by the total value of the sales to that importer (or customer ). Where an importer (or customer )-specific ad valorem rate was greater than de minimis, we calculated a per unit assessment rate by aggregating the dumping margins calculated for all U.S. sales to that importer (or customer ) and dividing this amount by the total quantity sold to that importer (or customer ). All entries subject to the PRC-wide rate will be assessed duties at the PRC-wide rate listed above.

All other entries of the subject merchandise during the POR will be liquidated at the antidumping duty rate in place at the time of entry.

The Department will issue appropriate assessment instructions directly to the Customs Service within 15 days of publication of these final results of review. We will not be ordering liquidation of entries from Oriental, Nannan, Lakeside, Haisheng, ZhongLu, Xian Yang, Xian Asia, Changsha and Shandong as we have been enjoined from liquidating subject merchandise exported by these companies.

Cash Deposit Requirements

The following cash deposit requirements will be effective upon publication of the final results of this administrative review for all shipments of the subject merchandise entered, or withdrawn from warehouse, for consumption on or after the publication date, as provided for by section 751(a)(1) of the Act: (1) for the PRC companies named above, the cash deposit rates will be the rates for these firms established in the final results of this review, except that, for exporters with de minimis rates (i.e., less than 0.5 percent) no deposit will be required; (2) for previously-reviewed PRC and non-PRC exporters with separate rates, the cash deposit rate will be the company-specific rate established for the most recent period during which they were reviewed; (3) for all other PRC exporters, the rate will be the PRC country-wide rate, which is 51.74 percent; and (4) for all other non-PRC exporters of subject merchandise from the PRC, the cash deposit rate will be the rate applicable to the PRC supplier of that exporter. These deposit requirements, when imposed, shall remain in effect until publication of the final results of the next administrative review.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections section 751(a)(3) and 777(i) of the Act.

Dated: November 6, 2002.
Faryar Shirzad,
Assistant Secretary for Import Administration.

Appendix

List of Comments and Issues in the Decision Memorandum

Comment 1: Valuation of Steam Coal

Comment 2: Deduction of Domestic Brokerage and Handling Charges from U.S. Sales Price

Comment 3: Valuation of Aseptic Bags

Comment 4: Inclusion of Government MIS Apple Price in Surrogate Value Calculation

[FR Doc. 02-28925 Filed 11-13-02; 8:45 am]

BILLING CODE 3510-DS-S